DEPARTMENT OF DEFENSE

Department of the Army

Final Programmatic Environmental Impact Statement (PEIS) for the Growth, Realignment, and Stationing of Army Aviation Assets

AGENCY: Department of the Army, DoD.

ACTION: Notice of availability.

SUMMARY: The Department of the Army announces the availability of the Final PEIS for the proposed growth, realignment, and stationing of new and existing Army aviation assets. The proposed action includes the consolidation and reorganization of existing aviation units, and the potential establishment of one or more Combat Aviation Brigades (CABs). The proposed action will increase the availability of helicopter assets to meet current and future national security requirements, and will allow the Army better to organize existing aviation assets to promote more effective training and force management. The Final PEIS evaluates the environmental impacts associated with the proposed action, which includes the stationing of aviation units, the construction and renovation of garrison facilities, and additional training activities needed to support the readiness of aviation units. In addition, the Final PEIS addresses comments received on the Draft PEIS. Land acquisition is not being considered as part of this action.

The Final PEIS considers the following alternatives: Alternative 1—Realign and Station Existing Aviation Elements of Up to a Full CAB or Activate and Station a New CAB at Fort Carson Colorado (CO). Under this alternative, the Army will consolidate existing aviation units not currently assigned to a CAB into a standard CAB structure at Fort Carson or activate a new CAB at Fort Carson. As part of this alternative, aviation units will conduct training on existing land at Pinon Canyon Maneuver Site (PCMS), CO, in order to maintain training proficiency and support integrated training with ground units. Land acquisition is not being considered as part of this action. Alternative 2—Realign and Station Existing Aviation Elements of Up to a Full CAB or Grow, Station, and Activate a CAB at Joint Base Lewis-McChord (JBLM) Washington (WA). Under this alternative, the Army either will consolidate existing aviation units not currently assigned to a CAB into a standard CAB structure at JBLM or activate a new CAB at JBLM. As part of this alternative, aviation units will conduct training on existing training land at Yakima Training Center (YTC), WA, in order to maintain training proficiency and support integrated training with ground units. Land acquisition is not being considered as part of this action. Alternative 3 (Preferred)—Implement Alternatives 1 and 2. Under this alternative, the consolidated units forming a CAB would be stationed at one installation, and the new CAB would be activated and stationed at the other installation. Fort Carson and JBLM would each gain up to one CAB. As part of this alternative, aviation units would conduct training on existing training land at the installations' training maneuver areas (PCMS for Fort Carson and YTC for JBLM) in order to maintain training proficiency and support integrated training with ground units. Land acquisition is not being considered as part of this action. Alternative 4—No Action Alternative. Under this alternative, the Army would retain its aviation force structure at its current levels, configurations, and locations.

Aviation units continue to be one of the Army's most stressed forces currently on 12-month deployments after every one year at home. The Army's goal is to give active-duty Soldiers two years at home for every year they're deployed. The completion of these stationing actions will provide sufficient aviation assets to allow Soldiers more time at home between deployments. Fort Carson and JBLM are the only stationing alternatives that meet all of the Army's stationing requirements for new CAB stationing. These locations have existing runways and airfields, provide adequate maneuver and airspace for CAB operations, and are equipped with existing training ranges that can support CAB training. Most importantly, Fort Carson and JBLM are the only major installations that have three or more Brigade Combat Teams but no CAB dedicated to provide aviation support for training. The proposed action would allow the Army to maximize integrated air-ground training. Land acquisition is not being considered as part of this action.

DATES: The waiting period for the Final PEIS will end 30 days after publication of a Notice of Availability in the Federal Register by the U.S. Environmental Protection Agency.

ADDRESSES: To obtain a copy of the Final PEIS contact: Public Affairs Office, U.S. Army Environmental Command, Attn: IMPA-AE, 1835 Army Boulevard (BSMT), Fort Sam Houston, TX 78234-2686.

FOR FURTHER INFORMATION CONTACT: Public Affairs Office at (210) 221-0882; fax (410) 436-1693; or e-mail at APGR-USAECNEPA@conus.army.mil.

SUPPLEMENTARY INFORMATION: A CAB consists of approximately 120 helicopters, 600 wheeled vehicles, and 2,700 Soldiers. The CAB is organized into five battalions and a headquarters unit. CAB units include combat, reconnaissance, and logistics support aircraft.

The Final PEIS assesses, considers, and compares the direct, indirect, and cumulative environmental effects of proposed CAB growth and realignment for each alternative. The primary environmental issues evaluated include impacts to air quality, soil, airspace, cultural resources, natural resources, and noise. In addition, the Army addresses comments received from the public and other organizations in response to the November 5, 2010 publication of the Draft PEIS.

As part of the Army's preferred alternative, the Army is considering the realignment and consolidation of aviation elements from active component forces not currently in a modular configuration into a CAB at JBLM, WA. In addition, the Army would establish a new CAB under this alternative at Fort Carson, CO. As part of this alternative, Fort Carson would gain one new CAB consisting of up to 2,700 new Soldiers and 120 helicopters. JBLM would receive most of the realigned units required to complete a CAB to complement aviation units already stationed there. The Army is considering a reduction in the number of Soldiers to be stationed at JBLM from a full CAB equivalent of Soldiers and equipment to approximately 1,400 new Soldiers and 44 helicopters. Units comprised of these Soldiers and equipment would provide a CAB training capability and complement Active Army aviation units already stationed at JBLM. A final decision on stationing will be included in the Record of Decision (ROD) for this proposal.

Environmental impacts associated with the implementation of the proposed action include significant impacts to: Transportation on the Interstate 5 corridor near JBLM, fish and water quality in Puget Sound, and noise impacts to sensitive receptors. There are potentially significant impacts to biological resources at YTC from increased potential for wildfire and habitat degradation associated with aviation training. Impacts will also include significant but mitigable impacts to soils at Fort Carson, PCMS, and YTC as well as significant but mitigable impacts to water resources at YTC. At PCMS, cumulative impacts to soils are predicted to be manageable with current dust control mitigation techniques. Impacts to cultural resources, air quality, noise impacts, public land use, and socioeconomic impacts were all determined to be less than significant.

An electronic version of the Final PEIS is available for download at the following Web site: http://aec.army.mil/usaec/nepa/topics00.html.

Dated: January 26, 2011.
Hershell E. Wolfe,
Acting Deputy Assistant Secretary of the Army (Environment, Safety, and Occupational Health).

[FR Doc. 2011-2449 Filed 2-3-11; 8:45 am]

BILLING CODE 3710-08-P